DEPARTMENT OF COMMERCE

International Trade Administration

[A-570-826]

Certain Paper Clips From the People's Republic of China: Continuation of Antidumping Duty Order

AGENCY: Enforcement and Compliance, International Trade Administration, Department of Commerce.

SUMMARY: As a result of the determinations by the Department of Commerce (Department) and the International Trade Commission (ITC) that revocation of the antidumping duty (AD) order on certain paper clips (paper clips) from the People's Republic of China (PRC) would likely lead to a continuation or recurrence of dumping and material injury to an industry in the United States, the Department is publishing a notice of continuation of the AD order.

DATES: Applicable October 30, 2017.

FOR FURTHER INFORMATION CONTACT: Maliha Khan or Thomas Martin, AD/CVD Operations, Office IV, Enforcement and Compliance, International Trade Administration, U.S. Department of Commerce, 1401 Constitution Avenue NW., Washington, DC 20230; telephone: 202-482-0895 or 202-482-3936, respectively.

SUPPLEMENTARY INFORMATION:

Background

On November 25, 1994, the Department published in the Federal Register the AD order on paper clips from the PRC.¹ On June 1, 2016, the Department published in the Federal Register the initiation notice for the fourth sunset review of the AD duty order on paper clips from the PRC, pursuant to section 751(c) of the Tariff Act of 1930, as amended (the Act).² The Department conducted this sunset review on an expedited basis, pursuant to section 751(c)(3)(B) of the Act and 19 CFR 351.218(e)(1)(ii)(C)(2), because it received a complete and adequate response from a domestic interested party, but no substantive responses from respondent interested parties. As a result of its review, the Department determined that revocation of the Order would likely lead to continuation or recurrence of dumping and notified the ITC of the magnitude of the margins likely to prevail should the Order be revoked.³ On August 30, 2017, the ITC published its determination that revocation of the Order would likely lead to a continuation or recurrence of material injury to an industry in the United States within a reasonably foreseeable time, pursuant to section 751(c) of the Act.⁴

¹ See Antidumping Duty Order: Certain Paper Clips from the People's Republic of China, 59 FR 60606 (November 25, 1994) (Order).

² See Initiation of Five-Year (“Sunset”) Review, 81 FR 34974 (June 1, 2016).

³ See Certain Paper Clips from the People's Republic of China: Final Results of the Expedited Fourth Sunset Review of the Antidumping Duty Order, 81 FR 69512 (October 6, 2016), and accompanying Issues and Decision Memorandum.

⁴ See Investigation No. 731-TA-663 (Fourth Review) Paper Clips from China, 82 FR 41288 (August 30, 2017), and Paper Clips from China: Investigation No. 731-TA-663 (Fourth Review), USITC Publication 4719 (August 2017).

Scope of the Order

The products covered by the Order are certain paper clips, wholly of wire of base metal, whether or not galvanized, whether or not plated with nickel or other base metal (e.g., copper), with a wire diameter between 0.025 inches and 0.075 inches (0.64 to 1.91 millimeters), regardless of physical configuration, except as specifically excluded. The products subject to the Order may have a rectangular or ring-like shape and include, but are not limited to, clips commercially referred to as “No. 1 clips”, “No. 3 clips”, “Jumbo” or “Giant” clips, “Gem clips”, “Frictioned clips”, “Perfect Gems”, “Marcel Gems”, “Universal clips”, “Nifty clips”, “Peerless clips”, “Ring clips”, and “Glide-On clips”.

Specifically excluded from the scope of the Order are plastic and vinyl covered paper clips, butterfly clips, binder clips, or other paper fasteners that are not made wholly of wire of base metal and are covered under a separate subheading of the HTSUS.

The products subject to the order are currently classifiable under subheading 8305.90.3010 of the Harmonized Tariff Schedule of the United States (HTSUS). Although the HTSUS subheadings are provided for convenience and customs purposes, the written description of the scope of the order is dispositive.

Continuation of the Order

As a result of the determinations by the Department and the ITC that revocation of the Order would be likely lead to a continuation or recurrence of dumping and material injury to an industry in the United States, pursuant to section 751(d)(2) of the Act and 19 CFR 351.218(a), the Department hereby orders the continuation of the AD order on paper clips from the PRC. U.S. Customs and Border Protection will continue to collect AD cash deposits at the rates in effect at the time of entry for all imports of subject merchandise.

The effective date of the continuation of the Order will be the date of publication in the Federal Register of this notice of continuation. Pursuant to section 751(c)(2) of the Act, the Department intends to initiate the next five-year review of the Order not later than 30 days prior to the fifth anniversary of the effective date of continuation.

This five-year sunset review and this notice are in accordance with section 751(c) of the Act and published pursuant to section 777(i)(1) of the Act and 19 CFR 351.218(f)(4).

Dated: October 25, 2017.
Gary Taverman,
Deputy Assistant Secretary for Antidumping and Countervailing Duty Operations, performing the non-exclusive functions and duties of the Assistant Secretary for Enforcement and Compliance.

[FR Doc. 2017-23537 Filed 10-27-17; 8:45 am]

BILLING CODE 3510-DS-P